OFFICE OF PERSONNEL MANAGEMENT

5 CFR Part 532

RIN 3206-AM22

Prevailing Rate Systems: Santa Clara, CA, Tulsa County, OK, and Angelina County, TX

AGENCY: U.S. Office of Personnel Management.

ACTION: Final rule.

SUMMARY: The U.S. Office of Personnel Management is issuing a final rule to define Tulsa County, Oklahoma, as an area of application to the Oklahoma, OK, nonappropriated fund (NAF) Federal Wage System (FWS) wage area and Angelina County, Texas, as an area of application to the Dallas, TX, NAF FWS wage area. These changes are necessary because there are NAF FWS employees working in Tulsa and Angelina Counties and the counties are not currently defined to NAF wage areas. In addition, this final rule correctly amends the Nationwide Schedule of Nonappropriated Fund Regular Wage Schedules by removing, under the State of California, “Santa Clara,” which was abolished as a NAF FWS wage area by a final rule published on March 9, 2009.

DATES: This regulation is effective on March 24, 2011.

FOR FURTHER INFORMATION CONTACT: Madeline Gonzalez, (202) 606-2838; e-mail pay-performance-policy@opm.gov; or FAX: (202) 606-4264.

SUPPLEMENTARY INFORMATION: On August 3, 2010, the U.S. Office of Personnel Management (OPM) issued a proposed rule (75 FR 45557) to define Tulsa County, Oklahoma, as an area of application to the Oklahoma, OK, nonappropriated fund (NAF) Federal Wage System (FWS) wage area and Angelina County, Texas, as an area of application to the Dallas, TX, NAF FWS wage area. The Federal Prevailing Rate Advisory Committee, the national labor-management committee responsible for advising OPM on matters concerning the pay of FWS employees, recommended these changes by consensus. The proposed rule had a 30-day comment period during which OPM received no comments.

CFR Correction

In addition, this final rule corrects Appendix B to subpart B of part 532—Nationwide Schedule of Nonappropriated Fund Regular Wage Schedules by removing, under the State of California, “Santa Clara,” which was abolished as a NAF FWS wage area by a final rule (74 FR 9951) published on March 9, 2009.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

Appendix B to Subpart B of Part 532—[Amended]

2. Appendix B to subpart B is amended, in the table under the State of California by removing the entry for “Santa Clara.”

3. Appendix D to subpart B is amended in the table by revising the wage area listing for the Oklahoma, OK, and Dallas, TX, NAF wage areas to read as follows:

Appendix D to Subpart B of Part 532—Nonappropriated Fund Wage and Survey Areas

* * * * *

OKLAHOMA

* * * * *

Oklahoma

Survey Area

Oklahoma:

Oklahoma

Area of Application. Survey area plus:

Oklahoma:

Garfield

Muskogee

Pittsburg

Tulsa

* * * * *

TEXAS

* * * * *

Dallas

Survey Area

Texas:

Dallas

Area of Application. Survey area plus:

Texas:

Angelina

Fannin

Galveston

Harris

* * * * *

[FR Doc. 2011-3775 Filed 2-18-11; 8:45 am]

BILLING CODE 6325-39-P